DEPARTMENT OF AGRICULTURE

National Organic Standards Board: Call for Nominations; Extension of Nomination Period

AGENCY: Agricultural Marketing Service, USDA.

ACTION: Notice of extension of nomination period.

SUMMARY: The Agricultural Marketing Service (AMS) published a notice soliciting nominations from qualified individuals to serve on the National Organic Standards Board (NOSB) in the Federal Register on April 9, 2015. Nominees will be considered for a 5-year NOSB term that will commence on January 24, 2016, and end January 23, 2021. The nomination period, as set in the notice, was to end on May 15, 2015. To ensure adequate opportunity for all interested members of the public to submit nominations for the NOSB, AMS is extending the nomination period by 30 days. Additional details can be found in the initial Federal Register notice at 68 FR 19059, and on the National Organic Program (NOP) Web site.

DATES: The nomination period for the notice published on April 9, 2015 (AMS-NOP-15-0005; NOP-15-04) is extended. Written nominations must be post-marked on or before June 17, 2015. Electronic submissions must be received on or before June 17, 2015.

ADDRESSES: Nominations should be sent to Rita Meade, USDA-AMS-NOP, 1400 Independence Avenue SW., Room 2648-So., Ag Stop 0268, Washington, DC 20250-0268 or via email to Rita.Meade@ams.usda.gov. Electronic submittals by email are preferred.

FOR FURTHER INFORMATION CONTACT: Michelle Arsenault, (202) 720-0081, Email: Michelle.Arsenault@ams.usda.gov; or Rita Meade, (202) 260-8636, Email: Rita.Meade@ams.usda.gov.

Dated: May 13, 2015.
Rex A. Barnes,
Associate Administrator, Agricultural Marketing Service.

[FR Doc. 2015-11947 Filed 5-15-15; 8:45 am]

BILLING CODE 3410-02-P